DEPARTMENT OF HEALTH AND HUMAN SERVICES

Centers for Disease Control and Prevention

[60Day-24-1181; Docket No. CDC-2023-0101]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Airline and Traveler Information Collection: Domestic Manifests and Passenger Locator Form. These data collection forms align with CDC's regulatory and public health mission under the authorities listed in CDC regulations to allow CDC to collect passenger and crew information from travelers and airlines when there has been a confirmed or suspected case of communicable disease aboard a domestic or international flight that puts other travelers at public health risk.

DATES: CDC must receive written comments on or before March 18, 2024.

ADDRESSES: You may submit comments, identified by Docket No. CDC-2023-0101 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Airline and Traveler Information Collection: Domestic Manifests and the Passenger Locator Form (42 CFR parts 70 and 71)—Revision—National Center for Emerging and Zoonotic Infectious Diseases (NCEZID), Centers for Disease Control and Prevention (CDC).

Background and Brief Description

The goal of this information collection is to ensure that, consistent with the authorities in the Public Health Service Act (PHSA) and in the Code of Federal Regulations (CFR), CDC can collect conveyance, passenger and crew member manifest information (aka manifests) and Passenger Locator Forms (PLF) in the event an individual with a confirmed or suspected case of a communicable disease is known to have traveled on an interstate flight while infectious or potentially infectious and presented a risk of spread to other passengers or crew. This information is collected so that CDC can initiate the process of contact tracing or provision of other public health follow up to prevent further disease spread.

The intended use of the information is to enable CDC to provide contact information to State and local health departments, so they can contact travelers in a timely manner to provide them with a notification that they may have been exposed to a communicable disease and to provide follow-up health information and any recommended interventions. In limited circumstances CDC may contact travelers directly. There are no statistical sampling or research design methods being used. CDC makes a determination of whether or not to collect manifest information depending on the risk of communicable disease spread during and after travel. There is no subpopulation being studied. The universe of respondents is any airline aboard which an infectious or potentially infectious individual is confirmed to have traveled.

Data will be analyzed to ensure that timely responses from airlines are received and that the manifest information is shared with State and local public health departments, who generally bear the responsibility of performing the contact investigations. However, there is no predetermined methodology to analyze the provision of manifest data from an airline.

The Domestic TB Manifest Order Template and Domestic non-TB Manifest Order Template have combined the domestic manifest request into one Manifest Order Template to align with current processes and needs. In addition, the estimated burden for tuberculosis and other infectious diseases domestic manifest orders have been combined into one estimate for the domestic manifest order template as the estimated time and burden to complete the manifest request is estimated to be very similar for all infectious diseases.

CDC requests OMB approval for an estimated 228,134 annual burden hours. There is no cost to respondents other than their time to participate.

Estimated Annualized Burden Hours
Type of respondents | Form name | Number of respondents | Number of responses per respondent | Average burden per response (in hours) | Total burden hours
Airline Medical Officer or Equivalent/Computer and Information Systems Manager | Domestic Manifest Order Template | 500 | 1 | 6 (360/60) | 3,000
Traveler | Public Health Passenger Locator Form: Outbreak of Public Health Significance (International Flights) | 2,700,000 | 1 | 5/60 | 225,000
Traveler | Public Health Passenger Locator Form: Limited Onboard Exposure (International and Domestic Flights) | 1600 | 1 | 5/60 | 134
Total |  |  |  |  | 228,134

Jeffrey M. Zirger,
Lead, Information Collection Review Office, Office of Public Health Ethics and Regulations, Office of Science, Centers for Disease Control and Prevention.

[FR Doc. 2024-00653 Filed 1-12-24; 8:45 am]

BILLING CODE 4163-18-P